DEPARTMENT OF TRANSPORTATION

Federal Aviation Administration

Thirty Sixth RTCA SC-213 Enhanced Flight Vision Systems/Synthetic Vision Systems (EFVS/SVS) Joint Plenary With EUROCAE Working Group 70

AGENCY: Federal Aviation Administration (FAA), U.S. Department of Transportation (DOT).

ACTION: Thirty Sixth RTCA SC-213 Enhanced Flight Vision Systems/Synthetic Vision Systems (EFVS/SVS) Joint Plenary with EUROCAE Working Group 70.

SUMMARY: The FAA is issuing this notice to advise the public of a meeting of the Thirty Sixth RTCA SC-213 Enhanced Flight Vision Systems/Synthetic Vision Systems (EFVS/SVS) Joint Plenary with EUROCAE Working Group 70.

DATES: The meeting will be held December 04, 2017, 10:00 a.m.-12:00 p.m.

ADDRESSES: The meeting will be held at: RTCA Headquarters, 1150 18th Street NW., Suite 910, Washington, DC 20036 and a webex will be hosted.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Thirty Sixth RTCA SC-213 Enhanced Flight Vision Systems/Synthetic Vision Systems (EFVS/SVS) Joint Plenary with EUROCAE Working Group 70. The agenda will include the following:

Monday, December 4, 2017 10:00 a.m.-12:00 p.m.

1. Welcome/Administrative Duties

2. IPR/Membership Call-Out and Introductions

3. Consider a Motion To Begin Open Consultation/Final Review and Comment for the CVS MASPS

4. New Business

5. Review Action Items

6. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 4, 2017.
Mohannad Dawoud,
Management & Program Analyst, Partnership Contracts Branch, ANG-A17, NextGen, Procurement Services Division, Federal Aviation Administration.

[FR Doc. 2017-24031 Filed 11-3-17; 8:45 am]

BILLING CODE 4910-13-P